DEPARTMENT OF JUSTICE

Notice of Lodging of Consent Decree under the Lead-Based Paint Hazard Act

Notice is hereby given that on October 4, 2000, two proposed consent decrees in (1) United States v. Wm. Calomiris Investment Corp. (“Calomiris”) Civil Action No. 00-2391; and (2) United States v. Borger Management, Inc. et al. (“Borger”) Civil Action No. 00-2392, were lodged with the United States District Court for the District of Columbia.

These consent decrees settle claims against management agents and owners of several residential apartment buildings in the District of Columbia which were brought on behalf of the Department of Housing and Urban Development under the Residential Lead-Based Paint Hazard Reduction Act 42 U.S.C. 4851 et seq. (“Lead Hazard Reduction Act”). The United States alleged in its complaints that each defendant failed to provide information to tenants concerning lead-based paint hazards.

Under the consent decrees, defendants have agreed to perform lead-based paint abatement and to pay HUD administrative penalties. The defendant in the United States v. Wm. Calomiris Investment Corp. case is the managing agent for more than 2,000 apartment units in the District of Columbia. Defendant has agreed to pay a $5,000 administrative penalty to HUD, to perform $10,000 in Child Health Improvement Projects by making a $5,000 contribution to the Children's National Medical Center and by making a $5,000 contribution to Healthy Babies Project, Inc., and to perform lead-based paint abatement work.

There are three defendants in the Borger case. Borger Management Inc., manages more than 2,300 apartment units at more than 30 apartment buildings in the District of Columbia. The other two defendants, Rolling Terrace LLC and Randolph Towers Apartments LLC, each own one of the buildings managed by Borger Management, Inc. Defendants have agreed to pay a $25,000 administrative penalty to HUD and to perform lead-based paint abatement work.

The Department of Justice will receive for a period of thirty (30) days from the date of this publication comments relating to the consent decrees. Comments should be addressed to the Assistant Attorney General of the Environment and Natural Resources Division, Department of Justice, Washington, DC 20530, and should refer to (1) United States v. Wm. Calomiris Investment Corp. (“Calomiris”); and (2) United States v. Borger Management, Inc. et al. (“Borger”) D.J. Ref. 90-5-1-1-06558. The two consent decrees may also be examined at the Department of Housing and Urban Development, Office of Lead Hazard Control, attention: Matthew E. Ammon, 490 L'Enfant Plaza SW., Room 3206, Washington, DC 20410, (202) 755-1785.

The two consent decrees may be obtained by mail from the Department of Justice Consent Decree Library, P.O. Box 7611, Washington, DC 20044-7611. In requesting copies from the Consent Decree Library, please enclose a check in the amount of $10.75 for the two consent decrees only (25 cents per page) or $12.75 when requesting attachments payable to the Consent Decree Library.

Bruce S. Gelber,
Section Chief, Environmental Enforcement Section, Environment and Natural Resources Division.

[FR Doc. 00-27171 Filed 10-20-00; 8:45 am]

BILLING CODE 4410-15-M